DEPARTMENT OF TRANSPORTATION

Federal Aviation Administration

14 CFR Part 73

[Docket No. FAA-2001-8683; Airspace Docket No. 01-ASW-2]

RIN 2120-AA66

Modification of Restricted Area R-6312 Cotulla, TX

AGENCY: Federal Aviation Administration (FAA), DOT.

ACTION: Final rule.

SUMMARY: This action raises the upper limit of Restricted Area 6312 (R-6312) Cotulla, TX, from the current 12,000 feet above mean sea level (MSL) to Flight Level 230 (FL 230) to provide airspace for high altitude release bombing training. This rule makes no other changes to R-6312.

EFFECTIVE DATE: 0901 UTC, December 27, 2001.

FOR FURTHER INFORMATION CONTACT: Steve Rohring, Airspace and Rules Division, ATA-400, Office of Air Traffic Airspace Management, Federal Aviation Administration, 800 Independence Avenue, SW., Washington, DC 20591; telephone: (202) 267-8783.

SUPPLEMENTARY INFORMATION:

Background

On April 5, 2001, the FAA proposed (66 FR 18055) to amend 14 CFR part 73 to increase the vertical limits of R-6312 from 12,000 feet above MSL to FL 230. The FAA took this action in response to a request from the U.S. Navy indicating that current upper limit of R-6312 (12,000 feet above MSL) is not suitable for their training requirements. Specifically, altitudes up to FL230 are essential to fulfill their requirement to conduct high altitude release bombing training. Interested parties were invited to participate in this rulemaking proceeding by submitting written comments on this proposal to the FAA.

Discussion of Comment

In response to the Notice of Proposed Rule-making, the FAA received one comment in opposition to the change. The commenter indicated that the proposed increase to the ceiling from 12,000 feet MSL to FL 230 would cause visual flight rules (VFR) operations transiting the area to circumnavigate the restricted area. They requested an increase in the height of the east/west corridor through the restricted area from 1,000-feet AGL to 4,500 feet MSL to preclude the compression of transiting VFR aircraft into the corridor. The FAA disagrees with this comment because the predominant flow of VFR traffic in the area is north to south and visa versa. The affected aircraft would be higher than 12,000 feet and would not be likely to descend to 4,500 feet and circle to the east or west to pass through the east/west corridor rather than flying approximately 10nm to circumnavigate the restricted area. Further, increasing the height of the corridor would have a significant negative impact on military training without a significant benefit to civil VFR traffic in that it would prohibit low altitude awareness training.

Additionally, the commenter requests that the controlling agency's contact frequency be published in the tabular portion of the sectional aeronautical chart. The FAA agrees that it would be beneficial to display the contact frequency on the chart and will publish the contact frequency either in the tabular area or on the face of the sectional aeronautical chart.

The Rule

This amendment to 14 CFR part 73 raises the vertical limits of R-6312 from 12,000 feet above MSL to FL 230. This additional altitude is required in order to meet the Navy's requirement for high altitude release bombing training. No other change to R-6312 is made by this action. Section 73.63 of 14 CFR part 73 was republished in FAA Order 7400.8H, dated September 1, 2000.

The FAA has determined that this regulation only involves an established body of technical regulations for which frequent and routine amendments are necessary to keep them operationally current.

It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The United States Navy (USN) determined that this amendment of the restricted area's designated altitude qualifies for a categorical exclusion. The FAA has reviewed the USN's environmental documentation and concludes that this action is categorically excluded in accordance with FAA Order 1050.1D, Procedures for Handling Environmental Impacts, and the FAA/DOD Memorandum of Understanding of 1998 regarding Special Use Airspace actions.

List of Subjects in 14 CFR Part 73

Airspace, Navigation (air).

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

Section 73.63 [Amended]

2. Section 73.63 is amended as follows:

* * * * *

R-6312 Cotulla, TX [Amended]

By removing the current designated altitudes and substituting the following:

Designated altitudes. Surface to FL 230, excluding the area west of a line between lat. 28°′141″ N., long. 98°47′56″ W.; and lat. 28°11′56″ N., long. 98°48′01″ W.; and the area along Highway 624 extending ¼ mile each side where the floor is 1,000 feet AGL.

* * * * *

Issued in Washington, DC, on October 19, 2001.
Reginald C. Matthews,
Manager, Airspace and Rules Division.

[FR Doc. 01-27159 Filed 10-26-01; 8:45 am]

BILLING CODE 4910-13-P